DEPARTMENT OF HOMELAND SECURITY

U.S. Customs and Border Protection

U.S. Customs and Border Protection 2015 East Coast Trade Symposium: “Transforming Global Trade”

AGENCY: U.S. Customs and Border Protection, Department of Homeland Security (DHS).

ACTION: Notice of Trade Symposium.

SUMMARY: This document announces that U.S. Customs and Border Protection (CBP) will convene the 2015 East Coast Trade Symposium in Baltimore, Maryland, on Wednesday, November 4, 2015, and Thursday, November 5, 2015. The 2015 East Coast Trade Symposium will feature panel discussions involving agency personnel, members of the trade community, and other government agencies, on the agency's role in international trade initiatives and programs. Members of the international trade and transportation communities and other interested parties are encouraged to attend.

DATES: Wednesday, November 4, 2015, (opening remarks and general sessions, 8:00 a.m.-4:15 p.m. EST) and Thursday, November 5, 2015 (general session, break-out sessions and closing remarks, 8:00 a.m.-4:15 p.m. EST).

ADDRESSES: The CBP 2015 East Coast Trade Symposium will be held at the Baltimore Marriott Waterfront Hotel located at 700 Aliceanna Street, Baltimore, MD 21202.

FOR FURTHER INFORMATION CONTACT: The Office of Trade Relations at (202) 344-1440, or at tradeevents@dhs.gov. To obtain the latest information on the Trade Symposium and to register online, visit the CBP Web site at http://www.cbp.gov/trade/stakeholder-engagement/trade-symposium. Requests for special needs should be sent to the Office of Trade Relations at tradeevents@dhs.gov.

SUPPLEMENTARY INFORMATION: Earlier this year CBP held a Trade Symposium on the West Coast in Tacoma, WA. This document announces that CBP will convene the 2015 East Coast Trade Symposium on Wednesday, November 4, 2015, and Thursday, November 5, 2015 in Baltimore, Maryland. The theme for the 2015 East Coast Trade Symposium will be “Transforming Global Trade.” The format of the 2015 East Coast Trade Symposium will be held with general sessions on the first day, and a general session and breakout sessions on the second day. Discussions will be held regarding CBP's role in international trade initiatives and partnerships.

The agenda for the 2015 East Coast Trade Symposium can be found on the CBP Web site (http://www.cbp.gov). Registration is now open. The registration fee is $157.00 per person. Interested parties are requested to register immediately, as space is limited. All registrations must be made online at the CBP Web site (http://www.cbp.gov/trade/stakeholder-engagement/trade-symposium) and will be confirmed with payment by credit card only.

Hotel accommodations will be announced at a later date on the CBP Web site (http://www.cbp.gov).

Dated: October 14, 2015.
Maria Luisa Boyce,
Senior Advisor for Private Sector Engagement, Executive Director, Office of Trade Relations, Office of the Commissioner, U.S. Customs and Border Protection.

[FR Doc. 2015-26509 Filed 10-16-15; 8:45 am]

BILLING CODE 9111-14-P